DEPARTMENT OF THE INTERIOR

Bureau of Land Management

[LLNVL0000 L51010000.ER0000 LVRWF09F1640; N-82076; 09-08807; MO4500009275; TAS:14X5017]

Notice of Availability of the Draft Supplemental Environmental Impact Statement for the One Nevada Transmission Line, NV

AGENCY: Bureau of Land Management, Interior.

ACTION: Notice of Availability.

SUMMARY: In accordance with the National Environmental Policy Act of 1969 (NEPA), the Bureau of Land Management (BLM) has prepared a Draft Supplemental Environmental Impact Statement (SEIS) for the One Nevada Transmission Line and by this Notice is announcing the opening of the comment period.

DATES: To ensure comments will be considered, the BLM must receive written comments on the Draft SEIS for the One Nevada Transmission Line within 60 days following the date the Environmental Protection Agency publishes its Notice of Availability in the Federal Register. The BLM will announce future meetings or hearings and any other public involvement activities at least 15 days in advance through public notices, media news releases, and/or mailings.

ADDRESSES: You may submit comments by any of the following methods:

• Web site: www.blm.gov/nv.

• E-mail: michael_dwyer@blm.gov.

• Fax: (775) 289-1910.

• Mail: Michael Dwyer, BLM, HC 33 Box 33500, Ely, NV 89301.

Copies of the Draft SEIS for the One Nevada Transmission Line are available at the following locations in Nevada:

—BLM Ely District Office, 702 North Industrial Way, Ely.

—White Pine County Library, 950 Campton Street, Ely.

—BLM Nevada State Office, 1340 Financial Blvd., Reno.

—BLM Caliente Field Station, U.S. Highway 93, Caliente.

—Caliente Branch Library, 100 Depot Avenue, Caliente.

—BLM Southern Nevada District Office, 4701 North Torrey Pines, Las Vegas.

—North Las Vegas Library, 2300 Civic Center Drive, North Las Vegas.

FOR FURTHER INFORMATION CONTACT: Michael Dwyer, (702) 821-7102; e-mail: michael_dwyer@blm.gov.

SUPPLEMENTARY INFORMATION: On March 30, 2009, the BLM received an amended right-of-way application and Plan of Development from NV Energy for the One Nevada Transmission Line Project (ON Line Project). The Draft SEIS analyzes the construction, operation, and abandonment of a 236-mile, 500 kilovolt transmission line and telecommunication facilities running generally from Ely to Las Vegas, one new substation near Ely, and an expansion of one existing substation on private land near Battle Mountain, Nevada. The Notice of Intent to Prepare a Supplemental Environmental Impact Statement for the Proposed One Nevada Transmission Line, Nevada was published in the Federal Register on July 29, 2009 (74 FR 37728).

The components of the ON Line Project had been part of the original Ely Energy Center (EEC) proposal. In February 2009, during the public comment period for the EEC Draft Environmental Impact Statement (EIS), NV Energy made public their intention to postpone including the coal-fired power generation facilities associated with the EEC in their proposal until carbon capture technology becomes commercially feasible.

Two north-south utility corridors exist in Nevada that could accommodate a transmission line linking the northern and southern grids: one on the eastern side of the state and the other on the Western side of the State. The westerly corridor was considered as a potential location for the ON Line Project, but was eliminated because it would not provide access to transmission infrastructure for renewable energy resource areas in Eastern Nevada. Two alternative alignments within the eastern corridor (except in a few locations) are assessed in the SEIS. The “action” alternative generally follows the western boundary of the corridor and is the proponent's preferred alternative for engineering and operational reasons. The other alternative generally follows the eastern boundary of the corridor, but would be more costly to construct. A no-action alternative is also assessed.

Applicable comments collected during the public comment period on the EEC Draft EIS were carried forward into the SEIS process.

Please note that public comments and information submitted, including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

Rosemary Thomas,
District Manager, Ely District Office.

[FR Doc. E9-27891 Filed 11-19-09; 8:45 am]

BILLING CODE 4310-HC-P